DEPARTMENT OF JUSTICE

Notice of Lodging of Consent Decree Under the Clean Water Act

Notice is hereby given that on May 29, 2012, a proposed Consent Decree in United States v. Enterprise Products Operating and Mid-America Pipeline Company, Civ. A. No. 12-190, was lodged with the United States Court for the District of Nebraska.

The Complaint filed in this action asserts claims against the Defendants pursuant to Sections 301, 309 and 311 of the Clean Water Act, 33 U.S.C. 1311, 1319, 1321, stemming from three discharges of natural gasoline from a pipeline owned and operated by Defendants that occurred in 2007, 2010 and 2011 in Yutan, Nebraska, Niles, Kansas, and Onawa, Iowa respectively. The Consent Decree requires the Defendants to undertake specified measures to improve their reporting of spills from the pipeline and prevent pipeline ruptures caused by third parties. Defendants will also pay a civil penalty of $1,042,000 for the discharges.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Enterprise Products Operating and Mid-America Pipeline Company, 90-5-1-1-06074/1.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $9.00 (25 cents per page reproduction cost) payable to the U.S. Treasury or, if requesting by email or fax, forward a check in that amount to the Consent Decree Library at the address given above.

Robert E. Maher, Jr.,
Acting Deputy Section Chief, Environmental Enforcement Section, Environment and Natural Resources Division.

[FR Doc. 2012-14815 Filed 6-18-12; 8:45 am]

BILLING CODE 4410-15-P